DEPARTMENT OF TRANSPORTATION

Federal Aviation Administration

14 CFR Part 39

[Docket No. FAA-2008-0353; Directorate Identifier 2007-CE-101-AD; Amendment 39-15620; AD 2008-16-02]

RIN 2120-AA64

Airworthiness Directives; Hawker Beechcraft Corporation Model 390 Airplanes

AGENCY: Federal Aviation Administration (FAA), Department of Transportation (DOT).

ACTION: Final rule.

SUMMARY: We are adopting a new airworthiness directive (AD) for certain Hawker Beechcraft Corporation Model 390 airplanes. This AD requires you to repetitively do a post-flight check (owner/operator holding at least a private pilot certificate checking for residual heat in the angle-of-attack (AOA) probes or an appropriately-rated mechanic doing a maintenance manual operational test of the heat of the AOA probes) after every flight and replace or modify (upload software) the stall warning AOA transmitters. This AD results from reports of the potential for unannunciated loss of the heating function in the left-hand (LH) and right-hand (RH) stall warning AOA transmitters of Model 390 airplanes. We are issuing this AD to correct potentially inadequate stall warning with loss of stick pusher function.

DATES: This AD becomes effective on September 3, 2008.

On September 3, 2008, the Director of the Federal Register approved the incorporation by reference of certain publications listed in this AD.

ADDRESSES: For service information identified in this AD, contact Hawker Beechcraft Corporation, 9709 East Central, Wichita, Kansas 67291; telephone: (800) 429-5372 or (316) 676-3140.

To view the AD docket, go to U.S. Department of Transportation, Docket Operations, M-30, West Building Ground Floor, Room W12-140, 1200 New Jersey Avenue, SE., Washington, DC 20590, or on the Internet at http://www.regulations.gov. The docket number is FAA-2008-0353; Directorate Identifier 2007-CE-101-AD.

FOR FURTHER INFORMATION CONTACT: Philip Petty, Aerospace Engineer, Wichita Aircraft Certification Office, 1801 Airport Road, Room 100, Wichita, Kansas 67209; telephone: (316) 946-4139; fax: (316) 946-4107.

SUPPLEMENTARY INFORMATION:

Discussion

On March 19, 2008, we issued a proposal to amend part 39 of the Federal Aviation Regulations (14 CFR part 39) to include an AD that would apply to certain Hawker Beechcraft Corporation Model 390 airplanes. This proposal was published in the Federal Register as a notice of proposed rulemaking (NPRM) on March 25, 2008 (73 FR 15678). The NPRM proposed to require you to repetitively do a post-flight check (owner/operator holding at least a private pilot certificate checking for residual heat in the angle-of-attack (AOA) probes or an appropriately-rated mechanic doing a maintenance manual operational test of the heat of the AOA probes) after every flight and replace or modify (upload software) the stall warning AOA transmitters.

Comments

We provided the public the opportunity to participate in developing this AD. We received no comments on the proposal or on the determination of the cost to the public.

Conclusion

We have carefully reviewed the available data and determined that air safety and the public interest require adopting the AD as proposed except for minor editorial corrections. We have determined that these minor corrections:

• Are consistent with the intent that was proposed in the NPRM for correcting the unsafe condition; and

• Do not add any additional burden upon the public than was already proposed in the NPRM.

Costs of Compliance

We estimate that this AD affects 152 airplanes in the U.S. registry.

We estimate the following costs to incorporate and remove the temporary change to the AFM.

Labor cost | Parts cost | Total cost per airplane
0.5 work-hour × $80 per hour = $40 | Not Applicable | $40

We estimate that the post-flight residual heat check requires about 3 minutes to do. We estimate the following costs to do 10 of the post-flight residual heat checks. We have no way of determining the number of airplanes that would have this post-flight residual heat check, or how many times this will need to be performed before the terminating action is done:

Labor cost to do 10 post-flight residual heat checks | Parts cost | Total cost per airplane
0.5 work-hour × $80 per hour = $40 | Not Applicable | $40

We estimate the following costs to do the maintenance manual operational test of the heat of the AOA probes. We have no way of determining the number of airplanes that would have this operational test, or how many times this will need to be performed before the terminating action is done:

Labor cost | Parts cost | Total cost per airplane
0.5 work-hour × $80 per hour = $40 | Not Applicable | $40

We estimate the following costs to do any upload of software to the AOA transmitters. We have no way of determining the number of airplanes that would have this modification:

Labor cost | Parts cost | Total cost per airplane
4 work-hours × $80 per hour = $320 | Not Applicable | $320

We estimate the following costs to do any replacement of 2 stall warning AOA transmitters. We have no way of determining the number of airplanes that would have this replacement:

Labor cost | Parts cost | Total cost per airplane
2 work-hours × $80 per hour = $160 | $18,600 | $18,760

Authority for This Rulemaking

Title 49 of the United States Code specifies the FAA's authority to issue rules on aviation safety. Subtitle I, Section 106 describes the authority of the FAA Administrator. Subtitle VII, Aviation Programs, describes in more detail the scope of the agency's authority.

We are issuing this rulemaking under the authority described in Subtitle VII, Part A, Subpart III, Section 44701, “General requirements.” Under that section, Congress charges the FAA with promoting safe flight of civil aircraft in air commerce by prescribing regulations for practices, methods, and procedures the Administrator finds necessary for safety in air commerce. This regulation is within the scope of that authority because it addresses an unsafe condition that is likely to exist or develop on products identified in this AD.

Regulatory Findings

We have determined that this AD will not have federalism implications under Executive Order 13132. This AD will not have a substantial direct effect on the States, on the relationship between the national government and the States, or on the distribution of power and responsibilities among the various levels of government.

For the reasons discussed above, I certify that this AD:

1. Is not a “significant regulatory action” under Executive Order 12866;

2. Is not a “significant rule” under the DOT Regulatory Policies and Procedures (44 FR 11034, February 26, 1979); and

3. Will not have a significant economic impact, positive or negative, on a substantial number of small entities under the criteria of the Regulatory Flexibility Act.

We prepared a summary of the costs to comply with this AD (and other information as included in the Regulatory Evaluation) and placed it in the AD Docket. You may get a copy of this summary by sending a request to us at the address listed under ADDRESSES. Include “Docket No. FAA-2008-0353; Directorate Identifier 2007-CE-101-AD” in your request.

List of Subjects in 14 CFR Part 39

Air transportation, Aircraft, Aviation safety, Incorporation by reference, Safety.

Adoption of the Amendment

Accordingly, under the authority delegated to me by the Administrator, the Federal Aviation Administration amends part 39 of the Federal Aviation Regulations (14 CFR part 39) as follows:

PART 39—AIRWORTHINESS DIRECTIVES

1. The authority citation for part 39 continues to read as follows:

Authority: 49 U.S.C. 106(g), 40113, 44701.

§ 39.13 [Amended]

2. FAA amends § 39.13 by adding the following new AD:

2008-16-02 Hawker Beechcraft Corporation: Amendment 39-15620; Docket No. FAA-2008-0353; Directorate Identifier 2007-CE-101-AD.

Effective Date

(a) This AD becomes effective on September 3, 2008.

Affected ADs

(b) None.

Applicability

(c) This AD applies to Model 390 airplanes, serial numbers RB-4 through RB-204, that are certificated in any category.

Unsafe Condition

(d) This AD results from reports of the potential for unannunciated loss of the heating function in the left-hand (LH) and right-hand (RH) stall warning angle-of-attack (AOA) transmitters of Model 390 airplanes. We are issuing this AD to correct potentially inadequate stall warning with loss of stick pusher function.

Compliance

(e) To address this problem, you must do the following, unless already done:

Actions | Compliance | Procedures
(1) Incorporate Raytheon Aircraft Company Temporary Change to the FAA Approved Airplane Flight Manual P/N 390-590001-0003CTC7, issued: March 15, 2007, into the airplane flight manual (AFM). | Within 15 hours time-in-service (TIS) after September 3, 2008 (the effective date of the AD) or within 30 days after September 3, 2008 (the effective date of the AD), whichever occurs first. | Not Applicable.
(2) After every flight do the following: (i) Do a post-flight check for residual heat in the AOA probes. CAUTION: TO PREVENT POSSIBLE BURNS, USE EXTREME CAUTION TOUCHING HEATED AREAS. TO CHECK HEATING AND AVOID BURNS, HOLD HAND NEAR HEATED AREA OR MOVE HAND GRADUALLY FROM AMBIENT AREA TOWARD HEATED AREA UNTIL WARMTH CAN BE FELT. If you do not feel heat in the AOA probes, then do paragraph (e)(2)(ii) of this AD; or (ii) Do a post-flight maintenance manual operational test of the heat of the AOA probes. If the AOA probe fails the operational test, replace the AOA probe. | Begin the post-flight checks within 15 hours TIS after September 3, 2008 (the effective date of the AD) or within 30 days after September 3, 2008 (the effective date of the AD), whichever occurs first. Completion of paragraph (e)(3)(i) or (e)(3)(ii) of this AD terminates the required repetitive post-flight checks of this AD. Replace any AOA probe that fails the operational test before further flight. | (A) For the post-flight check for residual heat in the AOA probes: Follow Raytheon Aircraft Company Temporary Change to the FAA Approved Airplane Flight Manual Temporary Change P/N 390-590001-0003CTC7, issued: March 15, 2007. The owner/operator holding at least a private pilot certificate as authorized by section 43.7 of the Federal Aviation Regulations (14 CFR 43.7) may do this post-flight check required by paragraph (e)(2)(i) of this AD. Make an entry into the aircraft records showing compliance with this AD following section 43.9 of the Federal Aviation Regulations (14 CFR 43.9). (B) For the post-flight maintenance manual operational test of the heat of the AOA probes: Follow Raytheon Aircraft Company Temporary Change to the FAA Approved Airplane Flight Manual Temporary Change P/N 390-590001-0003CTC7, issued: March 15, 2007, and Hawker Beechcraft Mandatory Service Bulletin No. SB 27-3787, issued: May 2007. The maintenance manual operational test must be done by an appropriately rated mechanic.
|  | (C) For AOA probe replacement: Follow Hawker Beechcraft Mandatory Service Bulletin No. SB 27-3787, issued: May 2007.
(3) Replace or modify (upload software) the stall warning AOA transmitters by doing one of the following: (i) Upload new software Kit No. 123-3436 (Field Software Upload SLZ8060-3,-4) to the AOA transmitters; or (ii) Replace any part number (P/N) SLZ8060-3 and/or P/N SLZ8060-4 AOA transmitters with new P/N SLZ8060-5 AOA transmitters. | Within 250 hours TIS after September 3, 2008 (the effective date of this AD) or within 12 months after September 3, 2008 (the effective date of this AD), whichever occurs first. Completion of either paragraph (e)(3)(i) or (e)(3)(ii) of this AD terminates the required repetitive post-flight check of this AD. | Follow Hawker Beechcraft Mandatory Service Bulletin No. SB 27-3787, issued: May 2007.
(4) Remove Raytheon Aircraft Company Temporary Change to the FAA Approved Airplane Flight Manual P/N 390-590001-0003CTC7, issued: March 15, 2007, from the AFM. | Before further flight after doing the actions required by paragraph (e)(3)(i) or paragraph (e)(3)(ii) of this AD. | Follow Hawker Beechcraft Mandatory Service Bulletin No. SB 27-3787, issued: May 2007.
(5) Do not install any P/N SLZ8060-3 or P/N SLZ8060-4 AOA transmitter that does not have the new upgraded software required by paragraph (e)(3)(i) of this AD. | As of September 3, 2008 (the effective date of this AD). | Not Applicable.

Alternative Methods of Compliance (AMOCs)

(f) The Manager, Wichita Aircraft Certification Office (ACO), FAA, has the authority to approve AMOCs for this AD, if requested using the procedures found in 14 CFR 39.19. Send information to ATTN: Philip Petty, Aerospace Engineer, Wichita ACO, 1801 Airport Road, Room 100, Wichita, Kansas 67209; telephone: (316) 946-4139; fax: (316) 946-4107. Before using any approved AMOC on any airplane to which the AMOC applies, notify your appropriate principal inspector (PI) in the FAA Flight Standards District Office (FSDO), or lacking a PI, your local FSDO.

Material Incorporated by Reference

(g) You must use Raytheon Aircraft Company Temporary Change to the FAA Approved Airplane Flight Manual P/N 390-590001-0003CTC7, issued: March 15, 2007, and Hawker Beechcraft Mandatory Service Bulletin No. SB 27-3787, issued: May 2007, to do the actions required by this AD, unless the AD specifies otherwise.

(1) The Director of the Federal Register approved the incorporation by reference of this service information under 5 U.S.C. 552(a) and 1 CFR part 51.

(2) For service information identified in this AD, contact Hawker Beechcraft Corporation, 9709 East Central, Wichita, Kansas 67291; telephone: (800) 429-5372 or (316) 676-3140.

(3) You may review copies at the FAA, Central Region, Office of the Regional Counsel, 901 Locust, Kansas City, Missouri 64106; or at the National Archives and Records Administration (NARA). For information on the availability of this material at NARA, call 202-741-6030, or go to: http://www.archives.gov/federal_register/code_of_federal_regulations/ibr_locations.html.

Issued in Kansas City, Missouri, on July 23, 2008.
John Colomy,
Acting Manager, Small Airplane Directorate, Aircraft Certification Service.

[FR Doc. E8-17329 Filed 7-29-08; 8:45 am]

BILLING CODE 4910-13-P